DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 24, 2008.

Interested persons are invited to submit written comments regarding the subject matter of the investigations to the Director, Division of Trade Adjustment Assistance, at the address shown below, not later than July 24, 2008.

The petitions filed in this case are available for inspection at the Office of the Director, Division of Trade Adjustment Assistance, Employment and Training Administration, U.S. Department of Labor, Room C-5311, 200 Constitution Avenue, NW., Washington, DC 20210.

Signed at Washington, DC, this 2nd day of July 2008.
Linda G. Poole,
Certifying Officer, Division of Trade Adjustment Assistance.

Appendix
[TAA petitions instituted between 6/23/08 and 6/27/08]
TA-W | Subject firm (petitioners) | Location | Date of institution | Date of petition
63577 | Russell Corporation/Coosa River (Comp) | Wetumpka, AL | 06/23/08 | 06/20/08
63578 | Gibbs Die Casting (Comp) | Henderson, KY | 06/23/08 | 06/20/08
63579 | Alcatel-Lucent (Comp) | Oklahoma City, OK | 06/23/08 | 06/13/08
63580 | Credit Payment Services, Inc. (Wkrs) | Reno, NV | 06/23/08 | 06/20/08
63581 | Varian Semiconductor Equipment (Comp) | Gloucester, MA | 06/23/08 | 06/18/08
63582 | Actuant Power Packer (State) | Milwaukee, WI | 06/23/08 | 06/23/08
63583 | Dicon Fiber Optics, Inc. (State) | Richmond, CA | 06/23/08 | 06/07/08
63584 | NxStage Medical, Inc. (Comp) | Lawrence, MA | 06/24/08 | 06/23/08
63585 | Black Dot/CAPS Group Acquisition (Wkrs) | Crystal Lake, IL | 06/24/08 | 06/23/08
63586 | EPCO LLC (Wkrs) | Fremont, OH | 06/24/08 | 06/11/08
63587 | SAF Holland, Inc. (Comp) | Holland, MI | 06/24/08 | 06/10/08
63588 | Hermle Uhren GHBH and Co. (Wkrs) | Amherst, VA | 06/24/08 | 06/23/08
63589 | Delfingen US, Inc. (Comp) | San Antonio, TX | 06/24/08 | 06/24/08
63590 | General Fibers and Fabrics, Inc. (Comp) | LaGrange, GA | 06/24/08 | 06/17/08
63591 | Southwest Metal Finishing, Inc. (Wkrs) | New Berlin, WI | 06/24/08 | 06/23/08
63592 | Intermet Corporation (Wkrs) | Pulaski, TN | 06/24/08 | 06/16/08
63593 | Minco Manufacturing, LLC (Comp) | Colorado Springs, CO | 06/24/08 | 06/20/08
63594 | Hanes Industries (Comp) | Newton, NC | 06/24/08 | 06/23/08
63595 | Connectivity Technologies, Inc. (Wkrs) | Carrollton, TX | 06/24/08 | 06/21/08
63596 | Medtronic Vascular (State) | Danvers, MA | 06/24/08 | 06/23/08
63597 | Murpac of Indiana, LLC (Comp) | Remington, IN | 06/25/08 | 06/19/08
63598 | Bemcore Tool, Inc. (Wkrs) | Dayton, OH | 06/25/08 | 06/20/08
63599 | ExamOne, Quest Diagnostics (Wkrs) | Lenexa, KS | 06/25/08 | 06/23/08
63600 | Colson Monette (State) | Monette, AR | 06/25/08 | 06/18/08
63601 | General Ribbon Corp. (Comp) | Chatsworth, CA | 06/25/08 | 06/02/08
63602 | Talport Industries, LLC (Comp) | Hattiesburg, MS | 06/25/08 | 06/24/08
63603 | Western Mattress (Wkrs) | San Angelo, TX | 06/26/08 | 06/16/08
63604 | Destron Fearing (State) | South St. Paul, MN | 06/26/08 | 06/23/08
63605 | CPUZ, LLC (Comp) | Arden, NC | 06/26/08 | 06/25/08
63606 | Lakeland Mold Company, LLC (Comp) | Stow, OH | 06/27/08 | 06/26/08
63607 | Tecnicor International, Inc. (State) | Hingham, MA | 06/27/08 | 06/17/08
63608 | Lennox Manufacturing (State) | Marshall Town, IA | 06/27/08 | 06/26/08
63609 | C.A. Garner Veneer, Inc. (Comp) | Smithfield, KY | 06/27/08 | 06/10/08
63610 | RF Micro Devices (RFMD) (Rep) | Greensboro, NC | 06/27/08 | 06/24/08
63611 | Ametek Aerospace and Power Instruments (IUECWA) | Wilmington, MA | 06/27/08 | 06/24/08
63612 | American Axle and Manufacturing—Cheektowaga Facility (UAW) | Cheektowaga, NY | 06/27/08 | 06/26/08
63613 | Swaim Incorporated (Wkrs) | High Point, NC | 06/27/08 | 06/09/08
63614 | Benmatt Industries (State) | Federalsburg, MD | 06/27/08 | 06/26/08
63615 | Acuity Brands, Holophane (IBEW) | Newark, OH | 06/27/08 | 06/26/08

[FR Doc. E8-15856 Filed 7-11-08; 8:45 am]

BILLING CODE 4510-FN-P